DEPARTMENT OF COMMERCE

International Trade Administration

[A-427-801, A-428-801, A-475-801]

Ball Bearings and Parts Thereof From France, Germany and Italy: Final Results of Sunset Reviews and Revocation of Antidumping Duty Orders

AGENCY: Import Administration, International Trade Administration, Department of Commerce.

SUMMARY: On August 1, 2011, the Department of Commerce (the Department) initiated the sunset reviews of the antidumping duty orders on ball bearings and parts thereof from France, Germany, and Italy. See Initiation of Five-Year (“Sunset”) Review, 76 FR 45778 (August 1, 2011) (Initiation Notice). Because no domestic interested party filed a notice of intent to participate in response to the notice of initiation of the sunset reviews by the applicable deadline, the Department is revoking the antidumping duty orders on ball bearings and parts thereof from France, Germany, and Italy.

DATES: Effective Date: September 15, 2011.

FOR FURTHER INFORMATION CONTACT: Sandra Stewart at (202) 482-0768, AD/CVD Operations, Office 5, Import Administration, International Trade Administration, U.S. Department of Commerce, 14th Street and Constitution Avenue, NW., Washington, DC 20230.

SUPPLEMENTARY INFORMATION:

Background

On May 15, 1989, the Department published in the Federal Register the antidumping duty orders on ball bearings and parts thereof from France, Germany, and Italy. See Antidumping Duty Orders: Ball Bearings, Cylindrical Roller Bearings, Spherical Plain Bearings, and Parts Thereof From France, 54 FR 20902 (May 15, 1989), Antidumping Duty Orders: Ball Bearings, Cylindrical Roller Bearings, and Spherical Plain Bearings and Parts Thereof From the Federal Republic of Germany, 54 FR 20900 (May 15, 1989), and Antidumping Duty Orders: Ball Bearings and Cylindrical Roller Bearings, and Parts Thereof From Italy, 54 FR 20903 (May 15, 1989).

On August 1, 2011, the Department initiated the sunset reviews of the antidumping duty orders on ball bearings and parts thereof from France, Germany, and Italy pursuant to section 751(c) of the Tariff Act of 1930, as amended (the Act). See Initiation Notice.¹ We received no notice of intent to participate in response to the notice of initiation from domestic interested parties by the applicable deadline. See 19 CFR 351.218(d)(1)(i). As a result, the Department has concluded that no domestic party intends to participate in the sunset reviews. See 19 CFR 351.218(d)(1)(iii)(A). On August 24, 2011, we notified the International Trade Commission, in writing, that we intend to revoke the antidumping duty orders on ball bearings and parts thereof from France, Germany, and Italy. See 19 CFR 351.218(d)(1)(iii)(B)(2).

¹ The Department inadvertently included two revoked antidumping duty orders in the Initiation Notice. See Initiation of Five-Year (“Sunset”) Review: Correction, 76 FR 47149 (August 4, 2011).

Scope of the Orders

The products covered by the orders are ball bearings and parts thereof. These products include all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

For a list of scope determinations which pertain to the orders, see the “Memorandum to Laurie Parkhill” regarding scope determinations for the 2009/2010 administrative reviews dated April 14, 2011, which is on file in the Central Records Unit (CRU) of the main Commerce building, room 7046, in the General Issues record (A-100-001).

Revocation

Pursuant to section 751(c)(3)(A) of the Act and 19 CFR 351.218(d)(1)(iii)(B)(3), if no domestic interested party files a notice of intent to participate, the Department shall issue a final determination revoking the order within 90 days of the initiation of the review. Because no domestic interested party filed a timely notice of intent to participate in the sunset reviews, the Department finds that no domestic interested party is participating in the sunset reviews. Therefore, we are revoking the antidumping duty orders on ball bearings and parts thereof from France, Germany, and Italy. The effective date of revocation is September 15, 2011, the fifth anniversary of the continuation of the antidumping duty orders. See Tapered Roller Bearings and Parts Thereof from the People's Republic of China and Ball Bearings and Parts Thereof from France, Germany, Italy, Japan, and the United Kingdom: Continuation of Antidumping Duty Orders, 71 FR 54469 (September 15, 2006).

Pursuant to section 751(c)(3)(A) of the Act and 19 CFR 351.222(i)(2)(i), the Department intends to issue instructions to U.S. Customs and Border Protection to terminate the suspension of liquidation of entries of the merchandise subject to the orders which were entered, or withdrawn from warehouse, for consumption on or after September 15, 2011. Entries of subject merchandise prior to September, 15, 2011, will continue to be subject to the suspension of liquidation and requirements for deposits of estimated antidumping duties. The Department will conduct administrative reviews of the orders with respect to subject merchandise entered prior to the effective date of revocation in response to appropriately filed requests for review.

These final results of the five-year (sunset) reviews and notice are published in accordance with sections 751(c) and 777(i)(1) of the Act.

Dated: September 9, 2011.
Ronald K. Lorentzen,
Deputy Assistant Secretary for Import Administration.

[FR Doc. 2011-23688 Filed 9-14-11; 8:45 am]

BILLING CODE 3510-DS-P